DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term “FR Notice” appears in the list of affirmative decisions below. The term refers to the Federal Register volume and page where MSHA published a notice of the filing of the petition for modification.

FOR FURTHER INFORMATION CONTACT: Petitions and copies of the final decisions are available for examination by the public in the Office of Standards, Regulations, and Variances, MSHA, Room 627, 4015 Wilson Boulevard, Arlington, Virginia 22203. Contact Barbara Barron at 703-235-1910.

Dated at Arlington, Virginia this 6th day of May 2002.
Marvin W. Nichols, Jr.,
Director, Office of Standards, Regulations, and Variances.

Affirmative Decisions on Petitions for Modification

Docket No.: M-2001-011-C.

FR Notice: 66 FR 18659.

Petitioner: C.W. Mining Company (Co-op Mine).

Regulation Affected: 30 CFR 75.701.

Summary of Findings: Petitioner's proposal is to use a 480-volt, wye connected, (275 kW/356 kVA) diesel-powered generator for utility power and to move electrically powered mining equipment in and around the mine. This is considered an acceptable alternative method for the Bear Canyon Mine #1, the Canyon Mine #2, and the Bear Canyon Mine #3. MSHA grants the petition for modification for the 480-volt, three-phase, 275 kW/356 kVA diesel powered generator (DPG) set supplying power to a three-phase delta-wye connected 285 kVA transformer and three-phase 480- and 995-volt power circuits for the Bear Canyon Mine #1, the Canyon Mine #2, and the Bear Canyon Mine #3 with conditions.

Docket No.: M-2001-012-C.

FR Notice: 66 FR 18659.

Petitioner: C.W. Mining Company (Co-op Mine).

Regulation Affected: 30 CFR 75.901.

Summary of Findings: Petitioner's proposal is to use a 480-volt, wye connected, (275 kW/356 kVA) diesel-powered generator for utility power and to move electrically powered mining equipment in and around the mine. This is considered an acceptable alternative method for the Bear Canyon Mine #1, the Canyon Mine #2, and the Bear Canyon Mine #3. MSHA grants the petition for modification for the 480-volt, three-phase, 275 kW/356 kVA diesel powered generator (DPG) set supplying power to a three-phase delta-wye connected 285 kVA transformer and three-phase 480- and 995-volt power circuits for the Bear Canyon Mine #1, the Canyon Mine #2, and the Bear Canyon Mine #3 with conditions.

Docket No.: M-2001-014- and M-2001-015-C.

FR Notice: 66 FR 28932.

Petitioner: Consolidation Coal Company.

Regulation Affected: 30 CFR 75.1700.

Summary of Findings: Petitioner's proposal is to seal the Pittsburgh Coal Seam from the surrounding strata at the abandoned wells using technology developed through its well-plugging program instead of maintaining barriers around the oil and gas wells. This is considered an acceptable alternative method for the Blacksburg No. 2 Mine and the Robinson Run No. 95 Mine. MSHA grants the petition for modification for mining through or near (whenever the safety barrier diameter is reduced to a distance less than the District Manager would approve pursuant to Section 75.1700) plugged oil or gas wells penetrating the Pittsburgh seam and other mineable coal seams with conditions.

Docket No.: M-2001-017-C.

FR Notice: 66 FR 28933.

Petitioner: Goodin Creek Contracting, Inc.

Regulation Affected: 30 CFR 75.380(f)(4)(i).

Summary of Findings: Petitioner's proposal is to use two-ten pound fire extinguishers for a total of twenty pounds on each Mescher tractor that would be readily accessible to the equipment operator, and instruct the operator to check the fire extinguisher daily before entering the mine. This is considered an acceptable alternative method for the Goodin Creek #2 Mine. MSHA grants the petition for modification for Mescher three-wheel tractors to be operated in the primary intake escapeway at the Goodin Creek #2 Mine with conditions.

Docket No.: M-2001-018-C.

FR Notice: 66 FR 28933.

Petitioner: Excel Mining, LLC.

Regulation Affected: 30 CFR 75.388(a)(i).

Summary of Findings: Petitioner's proposal is to drill boreholes in each advancing working place when the working place approaches to within twenty-five (25) feet of certain areas of the mine as shown by the surveys certified by a registered engineer or registered surveyor unless the area has been pre-shift examined. This is considered an acceptable alternative method for the Excel Mine. MSHA grants the petition for modification for the use of administrative and engineering controls in lieu of drilling boreholes when the working place approaches to within 25 feet of an adjacent panel that cannot be pre-shift examined at the Excel Mine with conditions.

Docket No.: M-2001-021-C.

FR Notice: 66 FR 28933.

Petitioner: Brushy Creek Coal Company.

Regulation Affected: 30 CFR 75.360(b)(5).

Summary of Findings: Petitioner's proposal is to conduct pre-shift examinations for water and gas levels at the seals of the #6 slope. This is considered an acceptable alternative method for the Brushy Creek Mine. MSHA grants the petition for modification to allow evaluation of the Number 6 Seam seals off the shaft at the Brushy Creek Mine with conditions.

Docket No.: M-2001-022-C.

FR Notice: 66 FR 28933.

Petitioner: Cook and Sons Mining, Inc.

Regulation Affected: 30 CFR 75.503 (18.41(f) of part 18).

Summary of Findings: Petitioner's proposal is to use a permanently installed spring-loaded locking device on permissible mobile battery-powered machines instead using padlocks to prevent unintentional loosening of battery plugs from battery receptacles and to eliminate the hazards associated with difficult removal of padlocks during emergency situations. This is considered an acceptable alternative method for the Premium Mine and the Sandlick Mine. MSHA grants the petition for modification for the use Premium Mine and Sandlick Mine with conditions.

Docket No.: M-2001-025-C.

FR Notice: 66 FR 28934.

Petitioner: Excel Mining, LLC.

Regulation Affected: 30 CFR 75.503 (18.41(f) of part 18).

Summary of Findings: Petitioner's proposal is to use a permanently installed locking screw threaded through a steel bracket or spring-loaded locking devices in lieu of padlocks on battery plugs for powering permissible underground mining equipment to prevent the threaded rings that secure the battery plugs to the battery receptacles from unintentional loosening, and place warning tags on all battery connectors on the battery-powered equipment that states: “DO NOT DISENGAGE PLUGS UNDER LOAD”. This is considered an acceptable alternative method for the Mine No. 2 and Mine No. 3. MSHA grants the petition for modification for the Mine No. 2 and the Mine No. 3 with conditions.

Docket No.: M-2001-026-C.

FR Notice: 66 FR 30232.

Petitioner: Fork Creek Mining Company.

Regulation Affected: 30 CFR 75.350.

Summary of Findings: Petitioner's proposal is to use belt air to ventilate active working places and install a carbon monoxide monitoring system as an early warning fire detection system in all belt entries used to carry intake air to a working place. This is considered an acceptable alternative method for Tiny Creek No. 2 Mine. MSHA grants the petition for modification for the Tiny Creek No. 2 Mine with conditions.

Docket No.: M-2001-030-C.

FR Notice: 66 FR 30232.

Petitioner: Independence Coal Company, Inc.

Regulation Affected: 30 CFR 75.503 (18.41(f) of part 18).

Summary of Findings: Petitioner's proposal is to use a permanently installed spring-loaded device instead of a padlock on mobile battery-powered equipment to prevent unintentional loosening of battery plugs from battery receptacles. This is considered an acceptable alternative method for the Justice #1 Mine, Shumate Powellton Mine, Shumate Upper Cedar Grove Mine, Jack's Branch Buffalo CK Mine, Twilight-Chilton R. Mine, Cedar Grove Mine No. 1, Tunnel Mine, and Allegiance Mine. MSHA grants the petition for modification for the Justice #1 Mine, Shumate Powellton Mine, Shumate Upper Cedar Grove Mine, Jack's Branch Buffalo CK Mine, Twilight-Chilton R. Mine, Cedar Grove Mine No. 1, Tunnel Mine, and Allegiance Mine with conditions.

Docket No.: M-2001-039-C.

FR Notice: 66 FR 30233.

Petitioner: Black Beauty Coal Company.

Regulation Affected: 30 CFR 75.1002.

Summary of Findings: Petitioner's request is to amend the proposed decision and order (PDO) for its previously granted petition, docket number M-2000-138-C. The petitioner requests that paragraph 1 be changed to paragraph 1a and add a paragraph 1b, and that paragraphs 16b, 25, 28, and 32 be amended, and that a paragraph 34 be added. The petitioner's amended alternative method is essentially the same as that approved in the previous PDO for use of the prototype high-voltage continuous miner at the Black Beauty Coal Company's Riola #1 mine, but there are significant differences in the language concerning the method of powering the tram motors of the miner during equipment moves. Other wording changes and additions more closely reflect the electrical design of the Joy 14 CM high-voltage continuous miner and the method used to power the miner during equipment moves. This is considered an acceptable alternative method for the Riola #1 Mine. MSHA grants the petition for modification for the 2400-volt high-voltage continuous miner at the Riola #1 Mine with conditions.

Docket No.: M-2001-040-C.

FR Notice: 66 FR 30233.

Petitioner: Peabody Coal Company.

Regulation Affected: 30 CFR 75.1002.

Summary of Findings: Petitioner's proposal is to use high-voltage 2400-volt trailing cables at the working continuous miner section(s) and use a portable transformer to supply power to the 995-volt tramming motors on the continuous miner when the miner is trammed into, out of, or around the mine. This is considered an acceptable alternative method for the Highland Mine. MSHA grants the petition for modification for the 2400-volt high-voltage continuous miner(s) at the Highland Mine with conditions.

Docket No.: M-2001-041-C.

FR Notice: 66 FR 30233.

Petitioner: Appalachian Eagle, Inc.

Regulation Affected: 30 CFR 75.1700.

Summary of Findings: Petitioner's proposal is to plug and mine through oil and gas wells. This is considered an acceptable alternative method for the Mine No. 1. MSHA grants the petition for modification for the use Mine No. 1 with conditions.

Docket No.: M-2001-043-C.

FR Notice: 66 FR 30234.

Petitioner: West Ridge Resources, Inc.

Regulation Affected: 30 CFR 75.804(a).

Summary of Findings: Petitioner's proposal is to use high-voltage cables for longwall equipment with an insulated internal ground check conductor smaller than a No. 10 (AWG), but not smaller than a No. 16 (AWG). This is considered an acceptable alternative method for the West Ridge Mine. MSHA grants the petition for modification for the use West Ridge Mine with conditions.

Docket No.: M-2001-044-C.

FR Notice: 66 FR 30234.

Petitioner: Canyon Fuel Company, LLC.

Regulation Affected: 30 CFR 75.1002.

Summary of Findings: Petitioner's proposal is to use high-voltage 4160-volt equipment inby the last open crosscut at the working longwall sections. This is considered an acceptable alternative method for the Skyline Mine #3. On July 12, 2001, MSHA grants the petition for modification for the 4160-volt longwall system for the Skyline Mine #3 with conditions. On July 12, 2001, MSHA grants “Application for Relief to Give Effect” to July 12, 2001.

Docket No.: M-2001-048-C.

FR Notice: 66 FR 30234.

Petitioner: Appalachian Eagle, Inc.

Regulation Affected: 30 CFR 75.503 (18.41(f) of part 18).

Summary of Findings: Petitioner's proposal is to use a permanently installed spring-loaded device instead of padlocks on battery-powered machines to prevent unintentional loosening of battery plugs from battery receptacles to eliminate the hazards associated with difficult removal of padlocks during emergency situations. This is considered an acceptable alternative method for the Mine #1. MSHA grants the petition for modification for the use of permanently installed spring-loaded locking devices in lieu of padlocks on battery plugs at the Mine # 1 with conditions.

Docket No.: M-2001-049-C.

FR Notice: 66 FR 30234.

Petitioner: Coastal Coal West Virginia, LLC.

Regulation Affected: 30 CFR 75.350.

Summary of Findings: Petitioner's proposal is to use belt haulage entries to ventilate active working places and install a carbon monoxide monitoring system as an early warning system in all belt entries used to course intake air to a working place. This is considered an acceptable alternative method for the Whitetail K-Mine. MSHA grants the petition for modification to allow air coursed through conveyor belt haulage entries to be used to ventilate working places at the Whitetail K-Mine with conditions.

Docket No.: M-2001-050-C.

FR Notice: 66 FR 30234.

Petitioner: Mingo Logan Coal Company.

Regulation Affected: 30 CFR 75.1700.

Summary of Findings: Petitioner's proposal is to plug and mine through gas wells. This is considered an acceptable alternative method for the Mountaineer Alma-A-Mine. MSHA grants the petition for modification for mining through or near (whenever the safety barrier diameter is reduced to a distance less than the District Manager would approve pursuant to Section 75.1700) plugged oil and gas wells penetrating the coal seam being mined and other mineable coal seams using continuous miners, conventional mining or longwall mining methods for the Mountaineer Alma-A-Mine with conditions.

Docket No.: M-2001-051-C.

FR Notice: 66 FR 34464.

Petitioner: Primrose Coal Company #2.

Regulation Affected: 30 CFR 75.1200(d) and (i).

Summary of Findings: Petitioner's proposal is use cross-sections instead of contour lines through the intake slope, at locations of rock tunnel connections between veins, and at 1,000-foot intervals of advance from the intake slope, and to limit the required mapping of the mine workings above and below to those present within 100 feet of the veins being mined except when veins are interconnected to other veins beyond the 100-foot limit through rock tunnels. This is considered an acceptable alternative method for the Buck Mountain Vein Slope Mine. MSHA grants the petition for modification for the Buck Mountain Vein Slope Mine with conditions.

Docket No.: M-2001-053-C.

FR Notice: 66 FR 34465.

Petitioner: Coastal Coal Company, LLC.

Regulation Affected: 30 CFR 75.503 (18.41(f) of part 18).

Summary of Findings: Petitioner's proposal is to use a permanently installed spring-loaded device instead of padlock on mobile battery-powered equipment to prevent unintentional loosening of battery plugs from battery receptacles and to eliminate hazards associated with difficult removal of padlocks during emergency situations. This is considered an acceptable alternative method for the Red Star Mine No.1, Hip-High Mine No. 1, Lynn Branch Mine No. 1, Black Thunder Mine No. 3, and the Koyle Branch Mine No. 1. MSHA grants the petition for modification for the use of permanently installed spring-loaded locking devices in lieu of padlocks on battery plugs on mobile battery-powered equipment at the Red Star Mine No.1, Hip-High Mine No. 1, Lynn Branch Mine No. 1, Black Thunder Mine No. 3, and the Koyle Branch Mine No. 1. with conditions.

Docket No.: M-2001-054-C.

FR Notice: 66 FR 34465.

Petitioner: Coastal Coal Company, LLC.

Regulation Affected: 30 CFR 75.900.

Summary of Findings: Petitioner's proposal is to use contactors in lieu of circuit breakers to provide protection against undervoltage, grounded phase, short circuit, and over-current. This is considered an acceptable alternative method for the Red Star Mine No.1, Hip-High Mine No. 1, Lynn Branch Mine No. 1, Black Thunder Mine No. 3, and the Koyle Branch Mine No. 1. MSHA grants the petition for modification to allow the use of contractors to provide undervoltage, grounded phase, and overload protection and monitor the grounding conductors for 480-volt belt conveyor drive motors and water pump motors greater than 5 horsepower located in the Red Star Mine No.1, Hip-High Mine No. 1, Lynn Branch Mine No. 1, Black Thunder Mine No. 3, and the Koyle Branch Mine No. 1 with conditions.

Docket No.: M-2001-055-C.

FR Notice: 66 FR 34465.

Petitioner: Mountaineer Coal Development Company. d.b.a. Marrowbone Development Company.

Regulation Affected: 30 CFR 75.1002.

Summary of Findings: Petitioner's proposal is to use 2400-volt AC-powered continuous mining equipment at its Dingess Tunnel No. 1 Deep Mine. This is considered an acceptable alternative method for the Dingess Tunnel No. 1 Deep Mine. On October 22, 2001, MSHA grants the petition for modification for the Dingess Tunnel No. 1 Deep Mine with conditions. On October 26, 2001, MSHA grants “Application for Relief to Give Effect” to October 22, 2001.

Docket No.: M-2001-056-C.

FR Notice: 66 FR 34465.

Petitioner: Speed Mining, Inc.

Regulation Affected: 30 CFR 75.1002.

Summary of Findings: Petitioner's proposal is to use high-voltage 4160-volt cables on longwall equipment at its American Eagle Mine. This is considered an acceptable alternative method for the American Eagle Mine. MSHA grants the petition for modification for the American Eagle Mine with conditions.

Docket No.: M-2001-059-C.

FR Notice: 66 FR 34465.

Petitioner: Monterey Coal Company.

Regulation Affected: 30 CFR 75.350.

Summary of Findings: Petitioner's proposal is to use belt entry to ventilate active working places. This is considered an acceptable alternative method for the No. 1 Mine. MSHA grants the petition for modification to allow air coursed through conveyor belt haulage entries to be used to ventilate active working places in longwall development sections and in retreating longwall panels, from a point not less than 8,000 feet from the panel mouth at the No. 1 Mine with conditions.

Docket No.: M-2001-060-C.

FR Notice: 66 FR 34466.

Petitioner: Peabody Energy, Rivers Edge Mining, Inc.

Regulation Affected: 30 CFR 75.1002.

Summary of Findings: Petitioner's proposal is to use high-voltage 2400-volt trailing cables in the last open crosscut at the working continuous miners section(s).

This is considered an acceptable alternative method for the Rivers Edge Mine. MSHA grants the petition for modification for the Rivers Edge Mine with conditions.

Docket No.: M-2001-062-C.

FR Notice: 66 FR 34466.

Petitioner: Eastern Associated Coal Corporation.

Regulation Affected: 30 CFR 75.1700.

Summary of Findings: Petitioner's proposal is to clean out and prepare oil and gas wells for plugging and to plug all wells that are encountered during normal operations. This is considered an acceptable alternative method for the Harris No. 1 Mine. MSHA grants the petition for modification for mining through or near (whenever the safety barrier diameter is reduced to a distance less than the District Manager would approve pursuant to Section 75.1700) plugged oil or gas wells penetrating the Eagle Coal Seam and other mineable coal seams using continuous miners, conventional mining or longwall methods at the Harris No. 1 Mine with conditions.

Docket No.: M-2001-066-C.

FR Notice: 66 FR 38749.

Petitioner: Branham & Baker Underground Corp.

Regulation Affected: 30 CFR 75.503 (18.41(f) of part 18).

Summary of Findings: Petitioner's proposal is to use a permanently installed spring-loaded device instead of a padlock on mobile battery-powered equipment to prevent unintentional loosening of battery plugs from battery receptacles and to eliminate hazards associated with difficult removal of padlocks during emergency situations. This is considered an acceptable alternative method for the Mine #23. MSHA grants the petition for modification for the Mine #23 with conditions.

Docket No.: M-2001-067-C.

FR Notice: 66 FR 38749.

Petitioner: Long Fork Development, Inc.

Regulation Affected: 30 CFR 75.503 (18.41(f) of part 18).

Summary of Findings: Petitioner's proposal is to use a permanently installed spring-loaded locking device in lieu of a padlock on mobile battery-powered equipment to prevent unintentional loosening of battery plugs from battery receptacles and to eliminate hazards associated with difficult removal of padlocks during emergency situations. This is considered an acceptable alternative method for the No. 6 Mine. MSHA grants the petition for modification for the use of permanently installed spring-loaded locking devices in lieu of padlocks on battery plugs at the No. 6 Mine with conditions.

Docket No.: M-2001-068-C.

FR Notice: 66 FR 38749.

Petitioner: Energy West Mining Company.

Regulation Affected: 30 CFR 75.364(b)(1).

Summary of Findings: Petitioner's proposal is to establish evaluation points instead of traveling an area from the top of the Cowin Raise for a distance of approximately three hundred (300) feet inby the intake air course, due to deteriorating adverse roof, deep water conditions. This is considered an acceptable alternative method for the Deer Creek Mine. MSHA grants the petition for modification for evaluation of the unsafe-for-examination intake air course segment (approximately 300 feet) known as the Cowin Raise Area at the Deer Creek Mine with conditions.

Docket No.: M-2001-070-C.

FR Notice: 66 FR 38749.

Petitioner: Consolidation Coal Company.

Regulation Affected: 30 CFR 75.804(a).

Summary of Findings: Petitioner's proposal is to use a high-voltage 4160-volt cable with in internal ground check conductor smaller than #10 A.W.G. as part of its longwall mining system. This is considered an acceptable alternative method for the Buchanan No. 1 Mine. MSHA grants the petition for modification for the Buchanan No. 1 Mine with conditions.

Docket No.: M-2001-071-C.

FR Notice: 66 FR 38749.

Petitioner: American Energy Corporation.

Regulation Affected: 30 CFR 75.804(a).

Summary of Findings: Petitioner's proposal is to use a high-voltage cable with an internal ground check conductor smaller than No. 10 A.W.G. as part of its longwall mining system. This is considered an acceptable alternative method for the Century Mine. MSHA grants the petition for modification for the use of high-voltage system at the with conditions.

Docket No.: M-2001-072-C.

FR Notice: 66 FR 38750.

Petitioner: American Energy Corporation.

Regulation Affected: 30 CFR 75.1002.

Summary of Findings: Petitioner's proposal is to use high-voltage 4160-volt cables inby the last open crosscut. This is considered an acceptable alternative method for the Century Mine. MSHA grants the petition for modification for the Century Mine with conditions.

Docket No.: M-2001-076-C.

FR Notice: 66 FR 41891.

Petitioner: Coastal Coal-West Virginia, LLC.

Regulation Affected: 30 CFR 75.1002.

Summary of Findings: Petitioner's proposal is to continuous mining machines with nominal voltage of the power circuits not to exceed 2400-volts. This is considered an acceptable alternative method for the Popular Ridge Mine. On October 22, 2001, MSHA grants the petition for modification for the Popular Ridge Mine with conditions. On October 23, 2001, MSHA grants “Application for Relief to Give Effect to October 22, 2001.

Docket No.: M-2001-079-C.

FR Notice: 66 FR 41892.

Petitioner: Drummond Company, Inc.

Regulation Affected: 30 CFR 75.1002.

Summary of Findings: Petitioner's proposal is to continuous mining machines with nominal voltage of power circuits not to exceed 2,400 volts at its Shoal Mine. This is considered an acceptable alternative method for the Shoal Creek Mine. MSHA grants the petition for modification for the use the 2,400-volt high-voltage continuous miner(s) at the Shoal Creek Mine with conditions.

Docket No.: M-2001-080-C.

FR Notice: 66 FR 41892.

Petitioner: Beech Fork Processing, Inc.

Regulation Affected: 30 CFR 75.503 (18.41(f) of part 18).

Summary of Findings: Petitioner's proposal is to use permanently installed spring-loaded devices instead of padlocks on mobile battery-powered equipment to prevent unintentional loosening of battery plugs from battery receptacles to eliminate the hazards associated with difficult removal of padlocks during emergency situations. This is considered an acceptable alternative method for the No. 5 Mine. MSHA grants the petition for modification for the No. 5 Mine with conditions.

Docket No.: M-2000-040-C.

FR Notice: 65 FR 31610.

Petitioner: Canyon Fuel Company, LLC.

Regulation Affected: 30 CFR 75.350.

Summary of Findings: Petitioner's proposal is to use the belt entry as the return entry during two-entry longwall panel development, and permit the operator the option of using the belt haulage entry as an intake entry for additional face ventilation during longwall panel retreat mining. The petitioner proposes to install a low-level carbon monoxide monitoring or equivalent product of combustion detection system in all longwall panel belt entries used as an intake or return air course in the primary intake entry. This is considered an acceptable alternative method for the Skyline Mine No. 3. MSHA grants the petition for modification for the Skyline Mine No. 3 with conditions.

Docket No.: M-2000-041-C.

FR Notice: 65 FR 31610.

Petitioner: Canyon Fuel Company, LLC.

Regulation Affected: 30 CFR 75.352.

Summary of Findings: Petitioner's proposal is to use the belt entry as the return entry during two-entry longwall panel development, and to allow the operator the option of using the belt haulage entry as an intake entry for additional face ventilation during longwall panel retreat mining. The petitioner proposes to install a low-level carbon monoxide or equivalent product of combustion detection system in all longwall panel belt entries used as an intake or return air course and in the primary intake entry. This is considered an acceptable alternative method for the Skyline Mine No. 3. MSHA grants the petition for modification for the Skyline Mine No. 3 with conditions.

Docket No.: M-2000-116-C.

FR Notice: 65 FR 58820.

Petitioner: San Juan Coal Company.

Regulation Affected: 30 CFR 75.1002.

Summary of Findings: Petitioner's proposal is to use high-voltage (4,160-volt) cables in by the last open crosscut and within 150 feet of pillar workings. This is considered an acceptable alternative method for the San Juan South Underground Mine. MSHA grants the petition for modification for the San Juan South Underground Mine with conditions.

Docket No.: M-2000-123-C.

FR Notice: 65 FR 64261.

Petitioner: Dominion Coal Corporation.

Regulation Affected: 30 CFR 75.204(a)(1).

Summary of Findings: Petitioner's proposal is to use special purpose roof bolts that meet the requirements of ASTM F432-83 and ASTM F432-88, instead of using ASTM F432-95 roof bolts. This is considered an acceptable alternative method for the Dominion Mine No. 16, Dominion Mine No. 22, Dominion Mine No. 34, and Dominion Mine No. 36. MSHA grants the petition for modification for the use of Ingersoll Rand's Dyna-Rok roof bolts manufactured under the ASTM Standards F432-83 and F432-88 at the Dominion Mine No. 16, Dominion Mine No. 22, Dominion Mine No. 34, and Dominion Mine No. 36 with conditions.

Docket No.: M-2000-143-C.

FR Notice: 65 FR 75974.

Petitioner: San Juan Coal Company.

Regulation Affected: 30 CFR 75.1909(b)(6).

Summary of Findings: Petitioner's proposal is to operate its diesel road grader without front wheel brakes at a maximum speed of 10 miles per hour, lower the moldboard to increase stopping capability in emergency situations, and train grader operators on how to recognize the appropriate speeds for different road and slope conditions. This is considered an acceptable alternative method for the San Juan South Underground Mine and the San Juan Deep Mine. MSHA grants the petition for modification for the Caterpillar Inc., Model No. 120G, Serial No. 87V08979, diesel grader at the Juan South Underground Mine and the San Juan Deep Mine with conditions.

Docket No.: M-2000-002-M.

FR Notice: 65 FR 31612.

Petitioner: Original Sixteen to One Mine, Inc.

Regulation Affected: 30 CFR 57.11059(b).

Summary of Findings: Petitioner's proposal is to use its permissible combination self-contained breathing apparatus and pressure demand Type C supplied air respirator (MSHA and NIOSH approved TC-13F-146 issued on 4/13/88), in the interest of the health and safety of the hoist operator and the miners without modification, and continue to meet safety standards specific to the Sixteen to One Mine. This is considered an acceptable alternative method for the Original Sixteen to One Mine. MSHA grants the petition for modification for the Original Sixteen to One Mine with conditions.

Docket No.: M-2000-003-M.

FR Notice: 65 FR 40142.

Petitioner: FMC Corporation.

Regulation Affected: 30 CFR 57.22305.

Summary of Findings: Petitioner's proposal is to use a cordless drill or other equivalent drills to install surveying spads in the mine roof to minimize the potential of developing cumulative trauma disorders in the wrists, elbows, and shoulder of the surveyors. The petitioner propose to test for methane before using the drills and if one percent or more of methane is found, drilling will not begin and will be immediately stopped if a level of or greater than one percent methane is found. This is considered an acceptable alternative method for the Westvaco Mine. MSHA grants the petition for modification for the use Westvaco Mine with conditions.

Docket No.: M-2000-010-M.

FR Notice: 66 FR 9724.

Petitioner: ASARCO Incorporated.

Regulation Affected: 30 CFR 57.11055.

Summary of Findings: Petitioner's proposal is to use a vertical ladderway as an emergency escapeway, and as a secondary means of escape within the primary escapeway in the event of an extended power failure or repair to a damage hoist, to avoid hazards that are created by repeated unnecessary mine evacuations. This is considered an acceptable alternative method for the Coy Mine. MSHA grants the petition for modification for the Coy Mine during unplanned hoist outages to allow the Coy shaft ladderway to be designated as an escapeway 337 feet only when the Coy shaft hoist is incapacitated for unplanned reasons with conditions.

[FR Doc. 02-11727 Filed 5-9-02; 8:45 am]

BILLING CODE 4510-43-P